COMMISSION ON CIVIL RIGHTS

Notice of Public Briefing of the Hawai'i Advisory Committee to the U.S. Commission on Civil Rights

AGENCY: Commission on Civil Rights.

ACTION: Notice of public briefing.

SUMMARY: Notice is hereby given, pursuant to the provisions of the rules and regulations of the U.S. Commission on Civil Rights (Commission) and the Federal Advisory Committee Act (FACA), that the Hawai'i Advisory Committee (Committee) to the U.S. Commission on Civil Rights will convene by ZoomGov on Friday, September 13, 2024, from 2:00 p.m. to 4:00 p.m. HST, to collect testimony on their topic “Examining Hawaii's Child Welfare System and the Overrepresentation of Native Hawaiian Children and Families.

DATES: Friday, September 13, 2024, from 2:00 p.m.-4:00 p.m. Hawai'i Standard Time.

ADDRESSES: The briefing will be held via Zoom Webinar.

Registration Link (Audio/Visual): https://www.zoomgov.com/webinar/register/WN_u-RIF0vQS6iMupn0Vn_Y8Q.

Join by Phone (Audio Only): (833) 435-1820 USA Toll Free; Webinar ID: 161 483 5889.

FOR FURTHER INFORMATION CONTACT: Kayla Fajota, Designated Federal Officer (DFO) at kfajota@usccr.gov or (434) 515-2395.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captions will be provided for individuals who are deaf, hard of hearing, or who have certain cognitive or learning impairments. To request additional accommodations, please email Angelica Trevino, Support Services Specialists, at atrevino@usccr.gov at least 10 business days prior to the meeting.

Members of the public are entitled to make comments during the open period at the end of the meeting. Members of the public may also submit written comments; the comments must be received in the Regional Programs Unit within 30 days following the meeting. Written comments may be emailed to Kayla Fajota (DFO) at kfajota@usccr.gov.

Records generated from this meeting may be inspected and reproduced at the Regional Programs Coordination Unit Office, as they become available, both before and after the meeting. Records of the meetings will be available via www.facadatabase.gov under the Commission on Civil Rights, Hawai'i Advisory Committee link. Persons interested in the work of this Committee are directed to the Commission's website, http://www.usccr.gov, or may contact the Regional Programs Coordination Unit at atrevino@usccr.gov.

Agenda

I. Welcome and Roll Call

II. Chairperson Remarks

III. Panelists Presentations

IV. Committee Q&A

V. Public Comment

VI. Adjournment

Dated: August 16, 2024.
David Mussatt,
Supervisory Chief, Regional Programs Unit.

[FR Doc. 2024-18734 Filed 8-20-24; 8:45 am]

BILLING CODE P